DEPARTMENT OF AGRICULTURE

Forest Service

Ashley National Forest, Flaming Gorge Ranger District, Utah, Cedar Springs Marina Upgrade

AGENCY: Forest Service, USDA.

ACTION: Notice of intent to prepare an Environmental Impact Statement.

SUMMARY: The proposed action has several parts. It is to resolve dry storage issues, provide suitable shop area including storage, provide a convenience store near the parking lot, provide more adequate boat slippage and also provide more adequate boat sanitation facilities. Other parts of the proposed action are to enlarge the present footprint (acreage) of the marina facilities to accommodate the improvements and to also reissue the special use permit for 25 years.

DATES: Comments concerning the scope of the analysis must be received by 45 days after the legal notice in the Vernal Express on August 18, 2004. The draft environmental impact statement is expected May 2005 and the final environmental impact statement is expected in September 2005.

ADDRESSES: Send written comments to Jeff Schramm, Flaming Gorge District Ranger, Flaming Gorge Ranger District, and P.O. Box 279, Manila, UT 84046.

FOR FURTHER INFORMATION CONTACT: Bill Gossman, ID Team Leader, at Flaming Gorge Ranger District, P.O. Box 279, Manila, UT 84046 or telephone at (435) 781-5282.

SUPPLEMENTARY INFORMATION: Purpose and Need for Action: The Purpose and Need for this project is to provide the public with more adequate recreation facilities and more adequate complimentary services at the Cedar Springs Marina situated on the Flaming Gorge Reservoir within the Flaming Gorge National Recreation Area.

Proposed Action: To fulfill the purpose and need the following actions are proposed and effects will be analyzed:

(1) Extend power to Buckskin Cove, to power adequate boat security, dewatering, and general use facilities for the boats held in the Buckskin Cove slips. This extension would be underground and approximately ¼ mile long.

(2) Move 40 boat slips to the Buckskin Cove after the power line is established. If in the future the water levels continue to drop, compromising additional present boat slips, then up to 40 additional boat slips could be moved to Buckskin Cove.

(3) Allow the proponent to provide a suitable shop building for boat maintenance and equipment and tool storage.

(4) Allow the proponent to provide an adequate dry storage area for boats.

(5) Enlarge the footprint of the SUP to accommodate the improvements being made.

(6) Re-issue the Special Use Permit for a 25-year period.

(7) Allow the proponent to provide a convenience store and restaurant near the parking lot.

Possible Alternatives: Based on the preliminary analysis the following potential alternatives to the proposed action have been formulated:

No Action Alternative—The Marina would continue as it is. Congestion would continue and current facilities would continue to deteriorate and public service would continue to be inadequate based on the Forest Plan, National Recreation Area Management Plan and public demand.

Alternative 3, Partial Marina Upgrade—Develop dries storage and run power to Buckskin Cove. This alternative would relieve some congestion and partially respond to the direction given by the National Recreation Area Management Plan. There would be no new convenience store or new shop building.

Responsible Official: The Ashley National Forest Supervisor, George Weldon is the responsible official. The address is Ashley National Forest, 355 N. Vernal Ave., Vernal, UT 84078.

Nature of Decision To Be Made: The decision to be made is whether to allow the upgrade of the Cedar Springs Marina, and whether to re-issue the Special Use Permit for 25 years, and also whether to increase the footprint (acreage) of the Special Use Permit as is proposed or to allow partial upgrade of the marina as in Alternative 3 or to not allow the upgrade as is found in the No Action Alternative.

Scoping Process: A scoping letter will be sent to interested parties. The letter will discuss the proposed project and purpose and need along with issues related to the project.

Preliminary Issues: The following are preliminary issues from early analysis. Fluctuating water levels have reduced public service at the marina, there is extreme parking congestion, antiquated facilities limit the proponents ability to provide valuable services to the public, compliance with the Flaming Gorge National Recreation Area Management Plan, and the strong public demand for marina services.

Permits or Licenses Required: Army Corp of Engineers 404 permit

Comment Requested: This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRCD, 435 U.S. 519, 553 (1978). Also, environmental objections that could be raised at the draft environmental impact statement state but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 11, 2004.
Eileen Richmond,
Acting Forest Supervisor.

[FR Doc. 04-19058 Filed 8-19-04; 8:45 am]

BILLING CODE 3410-11-M